DEPARTMENT OF LABOR

Employment and Training Administration

[TA-W-37,909]

Duke Energy Field Services, Ada, Oklahoma; Termination of Investigation

Pursuant to Section 221 of the Trade Act of 1974, an investigation was initiated on July 24, 2000, in response to a petition filed by a company official on behalf of workers at Duke Energy Field Services, Ada, Oklahoma.

The company official submitting the petition has requested that the petition be withdrawn. Consequently, further investigation in this case would serve no purpose, and the investigation has been terminated.

Signed in Washington, DC, this 8th day of August 2000.
Grant D. Beale,
Program Manager, Division of Trade Adjustment Assistance.

[FR Doc. 00-21728 Filed 8-24-00; 8:45 am]

BILLING CODE 4510-30-M